DEPARTMENT OF THE INTERIOR

Office of Natural Resources Revenue

30 CFR Part 1227

Delegation to States

CFR Correction

In Title 30 of the Code of Federal Regulations, Part 700 to End, revised as of July 1, 2012, in § 1227.110, on page 907, in the last sentence in paragraph (a), the phrase “www.ONRR.gov” is corrected to read “www.boemre.gov” and on page 908, in paragraph (e), the phrase “ONRR Associate Director for Minerals Revenue Management” is corrected to read “Director for Office of Natural Resources Revenue”.

[FR Doc. 2013-15695 Filed 6-27-13; 8:45 am]

BILLING CODE 1505-01-D